DEPARTMENT OF LABOR

Employment and Training Administration

[TA-W-80,224]

Grays Harbor Paper, LLC, Including on-site Workers From Barrier West, Inc., Hoquiam, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 26, 2011, applicable to workers of Grays Harbor Paper, LLC, Hoquiam, Washington. The workers are engaged in activities related to the production of uncoated free sheet paper. The notice was published in the Federal Register on September 14, 2011 (76 FR 56816).

At the request of the State agency, the Department reviewed the certification for workers of the subject firm. New information shows that workers from Barrier West, Inc. were employed on-site at the Hoquiam, Washington location of Grays Harbor Paper, LLC. The Department has determined that these workers were sufficiently under the control of Grays Harbor Paper, LLC to be included in this certification.

The intent of the Department's certification is to include all workers of the subject firm adversely affected by increased imports of uncoated free sheet paper.

Based on these findings, the Department is amending this certification to include workers from Barrier West, Inc. working on-site at the Hoquiam, Washington location of Grays Harbor Paper, LLC.

The amended notice applicable to TA-W-80,224 is hereby issued as follows:

All workers of Grays Harbor Paper, LLC, including on-site workers from Barrier West, Inc., Hoquiam, Washington, who became totally or partially separated from employment on or after June 7, 2010, through August 26, 2013, are eligible to apply for adjustment assistance under Section 223 of the Trade Act of 1974, and are also eligible to apply for alternative trade adjustment assistance under Section 246 of the Trade Act of 1974.

Signed at Washington, DC, this 25th day of October 2011.
Michael W. Jaffe,
Certifying Officer, Office of Trade Adjustment Assistance.

[FR Doc. 2011-28595 Filed 11-3-11; 8:45 am]

BILLING CODE 4510-FN-P